DEPARTMENT OF ENERGY

Federal Energy Regulatory Commission

Notice of Commissioners and Staff Attendance at FERC Author Speaker Series Event

The Federal Energy Regulatory Commission (FERC or Commission) hereby gives notice that members of the Commission and/or Commission staff may attend the following event:

Author Speaker Series featuring Daniel Yergin: 888 First Street NE., Washington, DC 20426. October 30, 2012 (10:00 a.m.-12:00 p.m.)

The event will feature Pulitzer Prize winning author, Daniel Yergin, presenting on his most recent book, The Quest.

Dated: October 11, 2012.
Kimberly D. Bose,
Secretary.

[FR Doc. 2012-25516 Filed 10-16-12; 8:45 am]

BILLING CODE 6717-01-P